DEPARTMENT OF COMMERCE

National Oceanic and Atmospheric Administration

[I.D. 031607A]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 2-6, 2007. The Council meeting will begin on Monday, April 2, at 2 p.m., reconvening each day through Friday. All meetings are open to the public, except a closed session will be held from 2 p.m. until 3 p.m. on Monday, April 2 to address litigation and personnel matters. The Council will meet as late as necessary each day to complete its scheduled business.

ADDRESSES: The meetings will be held at the Seattle Marriott Hotel, 3201 South 176th Street, Seattle, WA 98188; telephone: (206) 241-2000.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Enforcement Issues

1. U. S. Coast Guard Annual Fishery Enforcement Report

C. Administrative Matters

1. Future Council Meeting Agenda Planning

2. Magnuson-Stevens Act Reauthorization Implementation

3. Approval of Council Meeting Minutes

4. Appointments to Advisory Bodies, Standing Committees, and Other Forums, Including any Necessary Changes to Council Operating Procedures

5. Ecosystem Fishery Management Plan

6. Legislative Matters

7. Council Three-Meeting Outlook, Draft June 2007 Council Meeting Agenda, and Workload Priorities

D. Open Public Comments on Non-Agenda Items

E. Groundfish Management

1. NMFS Report

2. Consideration of 2007 Inseason Adjustments

3. Amendment 15: American Fisheries Act Issues

4. Final Action on 2007 Inseason Adjustments

F. Habitat

Current Habitat Issues

G. Salmon Management

1. NMFS Recovery Plan for Klamath River Coho

2. Tentative Adoption of 2007 Ocean Salmon Management Measures for Analysis

3. Methodology Review Process and Preliminary Topic Selection for 2007

4. Clarify Council Direction for 2007 Ocean Salmon Management Measures (if Needed)

5. Final Action on 2007 Ocean Salmon Management Measures

6. Clarify Final Action on 2007 Ocean Salmon Management Measures (if Needed)

H. Pacific Halibut Management

Incidental Catch Regulations for the Salmon Troll and Fixed Gear Sablefish Fisheries

I. Marine Protected Areas

Review of Oregon Ocean Policy Advisory Council Report

J. Highly Migratory Species Management

1. NMFS Report

2. Albacore Fishing Effort Characterization

3. Longline Fishery Experimental Fishery Permit

4. Yellowfin Tuna Overfishing

5. Council Operating Procedure for Coordination with Regional Fishery Management Organizations

6. Initial Guidance for Inter-American Tropical Tuna Commission Meeting

SCHEDULE OF ANCILLARY MEETINGS
Monday, April 2, 2007 |
Council Secretariat | 8 a.m.
Groundfish Advisory Subpanel | 8 a.m.
Groundfish Management Team | 8 a.m.
Salmon Advisory Subpanel | 8 a.m.
Salmon Technical Team | 8 a.m.
Scientific and Statistical Committee | 8 a.m.
Habitat Committee | 9 a.m.
Legislative Committee | 9:30 a.m.
Methodology Evaluation Workgroup | 1 p.m.
Enforcement Consultants | 4:30 p.m.
Tribal Policy Group | As necessary.
Tribal and Washington Technical Group | As necessary.
Washington State Delegation | As necessary.
Tuesday, April 3, 2007 |
Council Secretariat | 7 a.m.
California State Delegation | 7 a.m.
Oregon State Delegation | 7 a.m.
Enforcement Consultants | 8 a.m.
Groundfish Advisory Subpanel | 8 a.m.
Groundfish Management Team | 8 a.m.
Salmon Advisory Subpanel | 8 a.m.
Salmon Technical Team | 8 a.m.
Scientific and Statistical Committee | 8 a.m.
Tribal Policy Group | As necessary.
Tribal and Washington Technical Group | As necessary.
Washington State Delegation | As necessary.
Wednesday, April 4, 2007 |
Council Secretariat | 7 a.m.
California State Delegation | 7 a.m.
Oregon State Delegation | 7 a.m.
Enforcement Consultants | 8 a.m.
Groundfish Advisory Subpanel | 8 a.m.
Groundfish Management Team | 8 a.m.
Salmon Advisory Subpanel | 8 a.m.
Salmon Technical Team | 8 a.m.
Highly Migratory Species Advisory Subpanel | 1 p.m.
Highly Migratory Species Management Team | 1 p.m.
Enforcement Consultants | As necessary.
Tribal Policy Group | As necessary.
Tribal and Washington Technical Group | As necessary.
Washington State Delegation | As necessary.
Thursday, April 5, 2007 |
Council Secretariat | 7 a.m.
California State Delegation | 7 a.m.
Oregon State Delegation | 7 a.m.
Enforcement Consultants | 8 a.m.
Groundfish Advisory Subpanel | 8 a.m.
Groundfish Management Team | 8 a.m.
Highly Migratory Species Advisory Subpanel | 8 a.m.
Highly Migratory Species Management Team | 8 a.m.
Salmon Advisory Subpanel | 8 a.m.
Salmon Technical Team | 8 a.m.
Enforcement Consultants | As necessary.
Tribal Policy Group | As necessary.
Tribal and Washington Technical Group | As necessary.
Washington State Delegation | As necessary.
Friday, April 6, 2007 |
Council Secretariat | 7 a.m.
California State Delegation | 7 a.m.
Oregon State Delegation | 7 a.m.
Enforcement Consultants | 8 a.m.
Salmon Advisory Subpanel | 8 a.m.
Salmon Technical Team | 8 a.m.
Tribal Policy Group | As necessary.
Tribal and Washington Technical Group | As necessary.
Washington State Delegation | As necessary.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: March 16, 2007.
Tracey L. Thompson,
Acting Director, Office of Sustainable Fisheries, National Marine Fisheries Service.

[FR Doc. E7-5145 Filed 3-20-07; 8:45 am]

BILLING CODE 3510-22-S